DEPARTMENT OF AGRICULTURE

Forest Service

36 CFR Part 223

RIN 0596-AB81

Notice of Extension of Public Comment Period—Sale and Disposal of National Forest System Timber; Special Forest Products and Forest Botanical Products

AGENCY: Forest Service, USDA.

ACTION: Notice of Extension of Public Comment Period.

SUMMARY: The public comment period is being extended an additional 30 days for the proposed rule governing the disposal of special forest products from National Forest System lands. The original notice called for comments to be submitted by December 21, 2007 (FR 72, 59496-59506, published on Monday, October 22, 2007). As stated in the original Public Notice, special forest products include, but are not limited to, wildflowers, mushrooms, moss, nuts, seeds, tree sap, and Christmas trees. The proposed rule also formally establishes a pilot program to charge and collect fees for the harvest and sale of forest botanical products on National Forest System lands. The proposed rule is intended to facilitate sustainable harvest of special forest products and forest botanical products. Public comment is invited and will be considered in the development of the final rule.

DATES: Comments must be received in writing by January 22, 2008.

ADDRESSES: Send written comments to Director, Forest Management Staff, USDA Forest Service, Mail Stop 1103, 1400 Independence Avenue, SW., Washington, DC 20250, by fax to (202) 205-1045, or by e-mail to wospecialproducts@fs.fed.us. Comments also may be submitted via the World Wide Web/Internet at http://www.regulations.gov. All comments, including names and addresses when provided, are placed in the record and are available for public inspection and copying at the Office of the Director, Forest Management Staff, Third Floor SW., Yates Building, 201 14th Street, SW., Washington, DC. Persons wishing to inspect the comments are encouraged to call ahead (202) 205-1766 to facilitate entrance into the building.

FOR FURTHER INFORMATION CONTACT: Richard Fitzgerald, Forest Service, Forest Management Staff, (202) 205-1753, or Sharon Nygaard-Scott, Forest Management Staff, (202) 205-1766.

Individuals who use telecommunication devices for the deaf (TDD) may call the Federal Information Relay Service (FIRS) at 1-800-877-8339 between 8 a.m. and 8 p.m., Eastern Standard Time, Monday through Friday.

Dated: December 14, 2007.
Gloria Manning,
Associate Deputy Chief, NFS.

[FR Doc. E7-24710 Filed 12-19-07; 8:45 am]

BILLING CODE 3410-11-P